DEPARTMENT OF COMMERCE

International Trade Administration

[A-570-831]

Fresh Garlic from the People's Republic of China: Extension of Time Limit for the Preliminary Results of the New Shipper Reviews

AGENCY: Import Administration, International Trade Administration, Department of Commerce.

EFFECTIVE DATE: December 3, 2008.

FOR FURTHER INFORMATION CONTACT: Toni Page, Jun Jack Zhao, or Elfi Blum, Import Administration, International Trade Administration, U.S. Department of Commerce, 14th Street and Constitution Avenue, NW, Washington, DC 20230; telephone: (202) 482-1398, (202) 482-1396, or (202) 482-0197, respectively.

SUPPLEMENTARY INFORMATION:

Background

On July 8, 2008, the Department of Commerce (Department) published a notice of initiation of new shipper reviews of fresh garlic from the PRC for six companies¹ covering the period November 1, 2007 through June 9, 2008. See Fresh Garlic from the People's Republic of China: Initiation of Antidumping Duty New Shipper Reviews, 73 FR 38979 (July 8, 2008); see also Memorandum to File from Martha Douthit titled, “Expansion of the Period of Review in the New Shipper Review of Fresh Garlic from the People's Republic of China,” dated July 29, 2008. The preliminary results of these new shipper reviews are currently due no later than December 27, 2008.

¹ The companies are Jinxiang Hejia Co., Ltd., Juye Homestead Fruits and Vegetables Co., Ltd., Jinxiang Tianheng Trade Co., Ltd., Weifang Chenglong Import & Export Co., Ltd., Shandong Jinxiang Zhengyang Import & Export Co., Ltd., and Chengwu County Yuanxiang Industry & Commerce Co., Ltd.

Statutory Time Limits

Section 751(a)(2)(B)(iv) of the Tariff Act of 1930, as amended (the Act), provides that the Department will issue the preliminary results of a new shipper review of an antidumping duty order within 180 days after the day on which the review was initiated. See also 19 CFR 351.214(i)(1). The Act further provides that the Department may extend that 180-day period to 300 days if it determines that the case is extraordinarily complicated. See 19 CFR 351.214 (i)(2).

Extension of Time Limit for Preliminary Results

The Department determines that these new shipper reviews involve extraordinarily complicated methodological issues, including the appropriate use of input methodology, potential affiliation issues, the examination of importer information, and the evaluation of the bona fide nature of each company's sales. Therefore, in accordance with section 751(a)(2)(B)(iv) of the Act and 19 CFR 351.214(i)(2), the Department is extending the time limit for these preliminary results by 120 days, until no later than April 26, 2009. As April 26, 2009, falls on a Sunday, our preliminary results will be issued no later than April 27, 2009, the next business day. The final results continue to be due 90 days after the publication of the preliminary results.

We are issuing and publishing this notice in accordance with sections 751(a)(2)(B)(iv) and 777(i) of the Act.

Dated: November 24, 2008.
Stephen J. Claeys,
Deputy Assistant Secretary for Antidumping and Countervailing Duty Operations.

[FR Doc. E8-28684 Filed 12-2-08; 8:45 am]

BILLING CODE 3510-DS-S